DEPARTMENT OF DEFENSE

Department of the Army, Corps of Engineers

Notice of Intent To Prepare a Supplemental Draft Environmental Impact Statement for the Lower Cache Creek Flood Risk Management Project, City of Woodland, Yolo County, California (CA)

AGENCY: Department of the Army, U.S. Army Corps of Engineers, DoD.

ACTION: Notice of Intent.

SUMMARY: The U.S. Army Corps of Engineers (Corps), Sacramento District, intends to prepare an integrated Feasibility Report/Supplemental Draft Environmental Impact Statement (FR/SDEIS) for the Lower Cache Creek Flood Risk Management Feasibility Study (feasibility study). The Corps will serve as the lead agency for compliance with the National Environmental Policy Act (NEPA). The feasibility study is evaluating opportunities to reduce flood damages to the city of Woodland and improve the conveyance of the hydraulic system in the lower Cache Creek Basin, in Yolo County, CA.

A Draft EIS was originally submitted for public review on March 21, 2003 (68 FR 13907). Following an assessment of public comments received as well as a determination of additional technical, environmental, and economic evaluation needs, the local sponsors, the City of Woodland and the Reclamation Board of the State of California, decided to pause the feasibility study. The 2003 Draft EIS/EIR was never finalized and no Record of Decision was prepared. The local sponsor reinitiated the study with the Corps in 2011 after further coordination with stakeholders and interested parties. Because of significant new circumstances and information relevant to environmental concerns and bearing on the proposed action or its impacts, a supplement to the 2003 draft EIS is being prepared.

DATES: Written comments regarding the scope of the feasibility study and SDEIS should be received by the Corps on or before September 25, 2015.

ADDRESSES: Send written comments and suggestions concerning this feasibility study and SDEIS to Mr. Tyler Stalker, U.S. Army Corps of Engineers, Sacramento District, Attn: Public Affairs Office (CESPK-PAO), 1325 J Street, Sacramento, CA 95814 or telephone at (916) 557-5107. Requests to be placed on the mailing list should also be sent to this address.

FOR FURTHER INFORMATION CONTACT: Mr. Mario Parker, email at mario.g.parker@usace.army.mil, telephone (916) 557-6701, or fax (916) 557-7856.

SUPPLEMENTARY INFORMATION:

1. Proposed Action. The Corps in cooperation with the non-Federal sponsors (The Central Valley Flood Protection Board and the City of Woodland) is conducting a cost-shared feasibility study on alternative flood risk reduction measures to the city of Woodland, Yolo County, CA, adjacent unincorporated areas, and agricultural lands. The study is authorized by section 209 of the Flood Control Act of 1962 (Pub. L. 87-874). A reconnaissance study of flooding problems in the westside tributaries, including Putah and Cache Creeks, and the Yolo Bypass was conducted in 1993-1994 under the authorization of the Energy and Water Development Appropriations Act of 1993. Recommendations from the reconnaissance study resulted in the pursuit of the present feasibility study.

2. Alternatives. The feasibility study's SDEIS will evaluate a combination of one or more flood control measures including setback levee along Cache Creek, stream channel improvements, a north Woodland floodway, a northern bypass into the Colusa Drain, and a no-action alternative. Mitigation measures for any significant adverse effects on environmental resources will be identified and incorporated into the alternatives in compliance with various Federal and State statutes.

3. Scoping Process.

a. A public scoping meeting will be held on September 3, 2015, from 4:00 p.m. to 7:00 p.m. at the Woodland Community Center at 2001 East Street in Woodland, CA. An overview of the study and the NEPA process will be presented, and an opportunity will be afforded to all interested parties to provide comments regarding the scope of the SDEIS analysis as well as potential alternatives.

b. The study plan provides for public scoping, meetings, and comment. The Corps has initiated a process of involving concerned Federal, State, and local agencies and individuals. The City of Woodland has held periodic public meetings to discuss issues and solicit public comment. Also, an initial public scoping meeting was held by the Corps on May 30, 2000. Comments received focused on flooding along Cache Creek, land subsidence, gravel mining, and effects of alternatives on the Cache Creek Settling Basin. In addition, comments received on the draft EIS submitted for review on March 21, 2003 are also being considered in the SDEIS. Finally, public awareness of the development of a proposed array of alternatives is being pursued through individual meetings between sponsors and key stakeholders. An initial public information meeting was held in November 2013.

c. Issues that will be analyzed in depth in the SDEIS include effects on vegetation and wildlife, special-status species, water quality, air quality, socio-economic conditions, and cultural resources. Other issues may include geology, soils, topography, noise, esthetics, climate and recreation. Also to be considered is the city ordinance adopted by the City of Woodland restricting any flood solution that would similarly produce deep floodplains north of the city (City Code Section 10.1, Flood Control Policy).

d. The Corps will consult with the U.S. Fish and Wildlife Service to comply with the Endangered Species and the Fish and Wildlife Coordination Acts. The Corps will also consult with the State Historic Preservation Officer to comply with the National Historic Preservation Act and coordinate with the U.S. Bureau of Indian Affairs to establish consultation requirements with tribes having trust assets and tribal interests that could be affected by the feasibility study's outcome.

e. A 45-day review period will be allowed for all interested agencies and individuals to review and comment on the draft FR/SDEIS. All interested persons are encouraged to respond to this notice and provide a current address if they wish to be contacted about the draft FR/SDEIS.

4. Availability. The FR/SDEIS is scheduled to be available for public review and comment in May 2016.

Brenda S. Bowen,
Army Federal Register Liaison Officer.

[FR Doc. 2015-21165 Filed 8-25-15; 8:45 am]

BILLING CODE 3720-58-P